DEPARTMENT OF ENERGY

International Energy Agency Meeting

Notice of Meeting

AGENCY: Department of Energy.

ACTION: Notice of meeting.

SUMMARY: The Industry Advisory Board to the International Energy Agency (IEA) will meet on November 19, 2003, at the headquarters of the IEA in Paris, France in connection with a meeting of the IEA's Standing Group on Emergency Questions.

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on November 19, 2003, beginning at 2 p.m. The purpose of this notice is to permit attendance by representatives of U.S. company members of the IAB at a meeting of the IEA's Standing Group on Emergency Questions (SEQ), which is scheduled to be held at the IEA on November 19, beginning at 3 p.m. and continuing on November 20, beginning at 9:30 a.m., including a preparatory encounter among company representatives from approximately 2 p.m. to 3 p.m. on November 19.

The agenda for the preparatory encounter among company representatives is a review of the SEQ's meeting agenda. The agenda of the SEQ meeting is under the control of the SEQ. It is expected that the SEQ will adopt the following agenda:

1. Adoption of the Agenda

2. Approval of the Summary Record of the 108th Meeting

3. Program of Work 2003-2004

—Review of SEQ Activities 2003-2004

—Projects for Surplus Publication Revenues

—First Steps Toward Emergency Response Exercise 3

4. Update on Compliance with International Energy Program Stockholding Commitments

—Reports by Non-Complying Member Countries

5. The Current Oil Market Situation

6. Report on the IEA Berlin Seminar on Oil Stocks and New Challenges to the Oil Market

7. Oil Stocks and the Oil Market

8. Report on Current Activities of the IAB

9. Other Policy and Legislative Developments in Member Countries

10. Other Emergency Response Activities

11. Recent Oil Developments in Iraq

12. World Energy Investment Outlook to 2030: Key Trends and Uncertainties

13. Activities with Non-Member Countries and International Organizations

—Workshop on ASEAN Oil Security and Emergency Preparedness

—Joint Oil Data Initiative (JODI), Cairo, October 8-9, 2003

—Trends and the IEA Role in Emergency Stockholding in Non-Member Countries

—Stockbuilding Workshop in India, January 20, 2004

—IEA and EU Stockholding Obligations

14. Emergency Response Reviews of IEA Member and Candidate Countries

—Revised Schedule of Emergency Response Reviews for 2003-2004

15. Other Documents for Information

—Emergency Reserve Situation of IEA Member Countries on July 1, 2003

—Emergency Reserve Situation of IEA Candidate Countries on July 1, 2003

—Monthly Oil Statistics: August 2003

—Base Period Final Consumption: 3Q2002-1Q2003

—Quarterly Oil Forecast: 4Q2003

—Panel of Arbitrators: Korean representation

—Update of Emergency Contacts List

16. Other Business

—Dates of Next Meetings: March 16-18, 2004, June 23-24, 2004, October 25-29, 2004

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, November 4, 2003.
Samuel M. Bradley,
Assistant General Counsel for International and National Security Programs.

[FR Doc. 03-28317 Filed 11-10-03; 8:45 am]

BILLING CODE 6450-01-P